DEPARTMENT OF LABOR

Office of the Secretary

Submission for OMB Review; Comment Request

December 20, 2001.

The Department of Labor (DOL) has submitted the following public information collection requests (ICRs) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King on (202) 693-4129 or E-mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submission of responses.

Type of Review: Revision of a currently approved collection.

Agency: Employment and Training Administration (ETA).

Title: Labor Exchange Reporting System.

OMB Number: 1205-0240.

Affected Public: State, Local, or Tribal Government and Individuals or households.

Type of Response: Reporting and Recordkeeping.

Number of Respondents: 27,054.

Requirement | Frequency | Annual responses | Average time per response (hours) | Estimated burden hours
Forms:
ETA 9002A | Quarterly | 216 | 1 | 216
ETA 9002B | Quarterly | 216 | 1 | 216
ETA 9002C | Quarterly | 216 | 3 | 648
ETA 9002D | Quarterly | 216 | 3 | 648
ETA 9002E | Quarterly | 216 | .75 | 162
VETS 200A | Quarterly | 212 | 1 | 212
VETS 200B | Quarterly | 212 | 1 | 212
VETS 200C | Quarterly | 212 | 1 | 212
Customer Satisfaction Survey:
State Agency Survey Administration | On-going | 54 | 340 | 18,360
State Survey Overhead | On-going | 54 | 77 | 4,158
Customer Satisfaction Survey | On occasion (once per contact) | 27,000 | .083 | 2,250
Total: |  | 28,824 |  | 27,294

Total Annualized Capital/Startup Costs: $819,000.

Total Annual Costs (operating/maintaining systems or purchasing services): $10,000,000.

Description: The ET Handbook No. 406 (ETA 9002 Data Preparation Handbook) provides instructions for completing the ETA 9002 Reports. The ETA 9002 Reports collect information on the activities administered by the public labor exchange in each State and on the outcomes attributable to these activities. The VETS 200 Report and Specifications collect information on the labor exchange activities provided to veterans by Disabled Veterans' Outreach Program (DVOP) specialists and Local Veterans' Employment Representatives (LVER's) within the public labor exchange in each State. We are revising the ET Handbook No. 406 (ETA 9002 Data Preparation Handbook) and VETS 200 Report and Specifications to reflect current federal reporting requirements and to provide for the reporting of performance outcome information derived using the labor exchange performance measures.

Ira L. Mills,
Departmental Clearance Officer.

[FR Doc. 01-32072 Filed 12-28-01; 8:45 am]

BILLING CODE 4510-30-M